DEPARTMENT OF AGRICULTURE

National Agricultural Statistics Service

Notice of Appointment to the Advisory Committee on Agriculture Statistics

AGENCY: National Agricultural Statistics Service, USDA.

ACTION: Notification of appointment to the Advisory Committee on Agriculture Statistics.

SUMMARY: The Office of the Secretary of Agriculture, in accordance with the Federal Advisory Committee Act, 5 U.S.C. App. 2, announces members appointed to the Advisory Committee on Agriculture Statistics. Twelve open positions were filled on the twenty-five member committee with members selected to serve 2-year terms. Selections were from seven categories that cover a broad range of agricultural disciplines and interests. Appointed members by categories they represent are:

Consumer and Information Organizations—James Dennis Rieck, Winfield, IL. Educational Organizations—Ling-Jung (Kelvin) Koong, Corvallis, OR; Gumecindo Salas, Springfield, VA. Farm Services Organizations—John Irving Gifford, Rock Island, IL; Jack Charles Mitenbuler, Indianapolis, IN. Government Agencies—Robert Dale Epperson, Fresno, CA. National Farm Organizations—Mark W. Jenner, Mt. Prospect, IL; Ivan W. Wyatt, Cedar Point, KS. Producer and Marketing Organizations—Mary Ashby Pamplin, Reston, VA; Lee F. Schrader, West Lafayette, IN; Topper Thorpe, Castle Rock, CO. Professional Organizations—Walter J. Armbruster, Darien, IL.

COMMENTS: The duties of the Committee are solely advisory. The Committee will make recommendations to the Secretary of Agriculture with regards to the agricultural statistics program of the National Agricultural Statistics Service (NASS) and such other matters as it may deem advisable, or which the Secretary of Agriculture, Under Secretary for Research, Education, and Economics, or the Administrator of NASS may request. The Advisory Committee's next meeting will take place April 3-4, 2001, in the Washington, DC area. All meetings are open to the public. Committee members will be reimbursed for official travel expenses only.

ADDITIONAL INFORMATION: Questions should be e-mailed to hq_aa@nass.usda.gov, faxed to (202) 720-9013, OR telephoned to Rich Allen, Associate Administrator, NASS, at (202) 720-4333. All mailed correspondence should be sent to Rich Allen, Associate Administrator, U.S. Department of Agriculture, National Agricultural Statistics Service, 1400 Independence Avenue SW., Room 4117 South Building, Washington, DC 20250-2000.

Signed at Washington, DC, January 29, 2001.
R. Ronald Bosecker,
Administrator, National Agricultural Statistics Service.

[FR Doc. 01-6203 Filed 3-12-01; 8:45 am]

BILLING CODE 3410-20-P